DEPARTMENT OF ENERGY

Federal Energy Regulatory Commission

[Docket No. ER03-1345-000]

Midwest Independent Transmission System Operator, Inc.; Supplemental Notice of Technical Conference

January 30, 2004.

The January 22, 2004, Notice of Technical Conference in this proceeding indicated that a technical conference regarding the Midwest Independent Transmission System Operator, Inc.'s (Midwest ISO) proposed revision to Attachment C of its Open Access Transmission Tariff, relating to the calculation of Available Flowgate Capacity (AFC), will be held on Thursday, February 5, 2004, at 9 a.m. This conference will be held in Room 3M-1 at the offices of the Federal Energy Regulatory Commission, 888 First Street, NE., Washington, DC 20426. All interested persons may attend the conference, and registration is not required. However, attendees are asked to contact Nat Davis at (202) 502-6171 or nathaniel.davis@ferc.gov so that name tags for attendees can be created.

The agenda for the technical conference is attached. The topics will commence with a presentation by the Midwest ISO followed by a discussion. The conference will focus on the questions identified in the agenda. After the conference, Commission Staff will set a schedule for Comments and Reply Comments to be filed.

Magalie R. Salas,
Secretary.

Technical Conference Agenda

9-9:30 a.m.: Introductions—Commission Staff and Midwest ISO.

9:30-12 p.m.: Questions and responses to Midwest ISO proposed AFC calculation for transmission requests that source and/or sink within the AmericanTransmission Company, LLC (ATCo) footprint (Staff's questions are set forth below).

• Is the technology available to the Midwest ISO system operator to evaluate all affected flowgates for firm and non-firm transmission requests (a) for the individual ATCo control areas and (b) for the combined ATCo control areas?

• The proposed interim treatment of non-firm transactions sourcing and sinking within the ATCo footprint would reduce granularity, as compared with the ongoing work of Midwest ISO in increasing the level of specificity and detail (granularity) employed in its flow-based analysis of transmission service requests for all other Midwest ISO transactions, both firm and non-firm. How does Midwest ISO plan to (a) ensure that non-firm transactions are approved on a first-come, first-served basis and (b) ensure that transactions that cause congestion are not approved and not scheduled?

• Midwest ISO refers to the combining of the ATCo control areas into one as a “Virtual ATC area.” What is a “Virtual ATC area”? Are there any other examples within Midwest ISO or in other system of a “Virtual ATC area”?

• Does Midwest ISO have a procedure to identify and provide transparency of non-firm transactions that take place within the “Virtual ATC area”?

• If congestion occurs within the “Virtual ATC area,” how does Midwest ISO plan to relieve such congestion; (a) by curtailing specific non-firm transactions within ATCo, (b) curtailing all non-firm transactions within ATCo, (c) curtailing non-firm transactions sourcing and sinking outside ATCo, but with flowgate impacts within ATCo, or (d) other?

• Are all non-firm transactions within the ATCo footprint required to be “tagged” in the E-tag system, and input into the NERC Interchange Distribution Calculator (IDC)? By what process is Midwest ISO informed that such transactions have received the proper tag?

• Given that Midwest ISO has the capability of analyzing the flowgate impact of all firm and non-firm transactions within the Midwest ISO footprint, under what circumstances would transactions be approved without such analysis, and what would be the justification?

• Are all non-firm transactions sourcing and sinking in ATCo assumed to have the same impact on congestion, regardless of what a flowgate analysis, if actually performed, would indicate?

• How is congestion to be relieved for non-firm transactions that source and sink within ATCo, but impact flowgates outside ATCo?

• How is congestion to be relieved for non-firm transactions that source and sink outside ATCo, but impact flowgates within ATCo?

• What has been the recent experience of congestion within ATCo? Have there been instances when Transmission Load Relief (TLR) has been initiated? To what extent has the congestion been relieved by curtailing transactions sourcing and sinking within ATCo? outside ATCo?

• Does Midwest ISO anticipate that “Virtual ATC area” procedures will increase or decrease ATCo system congestion?

[FR Doc. E4-216 Filed 2-4-04; 8:45 am]

BILLING CODE 6717-01-P